DEPARTMENT OF LABOR

Employment and Training Administration

[TA-W-57,845]

Eaton Corporation, Saginaw, MI; Notice of Termination of Investigation

Pursuant to Section 221 of the Trade Act of 1974, as amended, an investigation was initiated on August 26, 2005 in response to a petition filed the PACE International Union, Local 6-433 on behalf of workers of Eaton Corporation, Saginaw, Michigan.

The petitioner has requested that the petition be withdrawn. Consequently, the investigation has been terminated.

Signed at Washington, DC, this 13th day of September, 2005.
Linda G. Poole,
Certifying Officer, Division of Trade Adjustment Assistance.

[FR Doc. E5-5302 Filed 9-27-05; 8:45 am]

BILLING CODE 4510-30-P